DEPARTMENT OF LABOR

Employment and Training Administration

[TA-W-38,550]

Pottstown Precision Casting, Inc./Harvard Industries, Inc. formerly/known/as Doehler Jarvis Stowe, PA; Notice of Negative Determination on Reconsideration

On August 15, 2001, the Department issued an Affirmative Determination Regarding Application for Reconsideration for the workers and former workers of the subject firm. The notice was published in the Federal Register on August 29, 2001 (66 FR 45698).

The Department initially denied TAA to workers of Pottstown Precision Casting, Inc./Harvard Industries, Inc., formerly known as Doehler Jarvis, Stowe, Pennsylvania because the “contributed importantly” group eligibility requirement of section 222(3) of the Trade Act of 1974, as amended, was not met. The workers at the subject firm were engaged in employment related to the production of automotive components.

The petition asserted that selected customers of the subject plant imported various automotive component parts, contributing importantly to the worker separations.

On reconsideration, the Department surveyed all selected customers (as supplied by the petitioner) of the subject firm regarding their purchases of products (as depicted by the petitioners application) like and directly competitive to what the subject plant produced during the relevant period. The Department contacted all customers as selected by the petitioner, all customers responded. The survey revealed that imports were negligible during the relevant period. The survey also revealed that the closure of the plant forced customers to seek other manufacturers of products like and directly competitive with what the subject plant produced.

The survey further indicated that customers of the subject firm purchased subject plant components, further processed the product and then exported some parts to foreign sources. The foreign sources integrated the parts into finished products.

The petitioner further asserted that the subject plant was under an existing TAA certification (TA-W-38,550) that expired on March 5, 2001. The customer of that certification was contacted and reported that only a negligible portion of the components (stators) were imported during the relevant period of the current investigation.

Conclusion

After reconsideration, I affirm the original notice of negative determination of eligibility to apply for worker adjustment assistance and NAFTA-TAA for workers and former workers of Pottstown Precision Casting, Inc./Harvard Industries, Inc., formerly known as Doehler Jarvis, Stowe, Pennsylvania.

Signed at Washington, DC, this 26th day of October, 2001.
Edward A. Tomchick,
Director, Division of Trade Adjustment Assistance.

[FR Doc. 01-28983 Filed 11-19-01; 8:45 am]

BILLING CODE 4510-30-M